DEPARTMENT OF DEFENSE

Department of the Army; Corps of Engineers

Notice of Availability (NOA) of Draft General Re-Evaluation Report/Environmental Impact Report and Supplemental Environmental Impact Statement (Draft Report) for Proposed Modifications to the Guadalupe River Project, Downtown San Jose, California, and Notice of Public Hearing

AGENCY: U.S. Army Corps of Engineers, Sacramento District, DOD.

ACTION: Notice of Availability and Notice of Public Hearing.

SUMMARY: Pursuant to section 102(s)(c) of the National Environmental Policy Act (NEPA) of 1969 (as amended), the U.S. Army Corps of Engineers (Corps) and the Santa Clara Valley Water District (SCVWD) have prepared a Draft General Re-Evaluation Report/Environmental Impact Report and Supplemental Environmental Impact Statement (Draft Report) for proposed modifications to the multiple-purpose Guadalupe River Project located in downtown San Jose, California. This Draft Report is being made available for a 45-day public comment period. A public hearing will be held to receive oral and written comments on the Draft Report. Interested Federal, state, and local agencies, organizations, and persons are invited to the hearing.

DATES: Comments on the Draft Report should be submitted on or before August 9, 2000. The public hearing will be held July 26, 2000 from 7:00 to 9:30 p.m.

ADDRESSES: Comments on the Draft Report should be submitted to the U.S. Army Corps of Engineers, Sacramento District Planning Division, Attention: Nina Bicknese, 1325 J Street, Sacramento, California 95814-2922. The Public Hearing will be held a the Santa Clara Valley Water District, Headquarters Board Room, 5750 Almaden Expressway, San Jose, California 95118-3686. Printed copies of the Draft Report are available for public inspection and review at the location listed below in Supplementary Information.

FOR FURTHER INFORMATION CONTACT: To obtain additional information related to this Report, interested persons are invited to contact the following: Nina Bicknese, Biological Sciences Environmental Manager, U.S. Army Corps of Engineers, 1325 J Street, Sacramento, California, 95814-2922, (916) 577-7948. (916) 577-5138 (FAX), nbicknese@spk.usace.army.mil

SUPPLEMENTARY INFORMATION:

1. Report Availability

In addition to availability for viewing and downloading on the Internet at the following World Wide Web address: www.spk.usace.army.mil/civ/civ.html, printed copies of the Draft Report are available for public inspection and review at the following locations:

Santa Clara Valley Water District, 5750 Almaden Expressway San Jose, CA, 95118

U.S. Army Corps of Engineers, Sacramento District, 1325 J Street, Sacramento, CA, 95814-2922

Almaden Library, 6455 Camden Ave. San Jose, CA, 95120-2823

Alviso Library, 5050 North First Street, Alviso, CA, 95002

Biblioteca Latino America, 921 South First Street, San Jose, CA, 95110

Cambrian Library, 1780 Hillsdale Avenue, San Jose, CA, 95124

Pearl Avenue Library, 4270 Pearl Avenue, San Jose, CA, 95136

Rosegarden Library, 1580 Naglee Avenue, San Jose, CA, 95126

Willow Glen Library, 1157 Minnesota Avenue, San Jose, CA, 95125

Dr. Martin Luther King Jr. Main Library, 180 West San Carlos Street, San Jose, CA, 95113

2. Report Background and Scope

This Report is supplemental to the 1985 Final Guadalupe River Interim Feasibility Report and Environmental Impact Statement (U.S. Army Corps of Engineers, 1985). It addresses proposed modifications to the Guadalupe River Project authorized by Congress under section 401(b) of the Water Resources Development Act of 1986 (Public Law 99-662) and amended by the Energy and Water Development Appropriations Act For Fiscal Year 1990 (Public Law 101-101). These modifications include flood protection, recreation, and mitigation measures primarily along 2.6 miles of the Guadalupe River in downtown San Jose and two related offsite mitigation areas. This Report will support decision making by the U.S. Army Corps of Engineers, Santa Clara Valley Water District, and other responsible agencies to implement the proposed modifications and to ensure compliance with NEPA, the California Environmental Quality Act (CEQA), and other pertinent laws and regulations. Potential direct and indirect environmental, social economic effects of the Proposed Action and other alternatives are evaluated, and project modifications are recommended for implementation.

The Draft Report analyses consider an array of alternative plans developed to modify the authorized project. These alternatives were developed in a manner that would avoid and minimize adverse environmental impacts to the maximum extent practicable, while meeting the primary planning objectives to (1) provide 100-year flood protection for the downtown San Jose area; (2) protect species listed under the Endangered Species Act; (3) meet conditions for State water quality certification under the Clean Water Act; and (4) further improve recreation opportunities along the river corridor. Numerous alternatives have been considered including revised channel widening, upstream detention, retention of the original authorized project design with additional mitigation, several channel bypass alternative, and no action. The Proposed Action fulfills all stated objectives and includes construction of some remaining components of the original authorized project, proposed modifications to include an underground bypass to convey flood-waters around existing riparian habitat, expanded onsite and offsite mitigation measures to accomplish habitat mitigation goals, and refined operation and maintenance requirements. The anticipated cumulative effects also have been considered and addressed.

3. Project Area

The project area for resources evaluated in the Report includes two areas along the Guadalupe River and one area Guadalupe Creek in Santa Clara County, California. The flood protection project is along the 2.6 mile reach of the Guadalupe River in downtown San Jose between Grant Street (just upstream from I-280) and I-880. The mitigation will be located (1) in an area along the Guadalupe River just downstream from I-880 and adjacent to the San Jose Airport, identified as the Reach A mitigation site, and (2) the Guadalupe Creek mitigation site, an area along Guadalupe Creek, from 660 feet downstream from Masson Dam to the Almaden Expressway. Guadalupe Creek is approximately 4 miles upstream from the downtown flood protection area. The project area includes the river, its banks, and land adjacent to the bank in each of these three locations.

4. Proposed Action

The Proposed Action is the modification and implementation of the remaining components of the Guadalupe River Project. The Proposed Action modification to the Authorized Project accomplish the following objectives:

• Provide 100-year flood protection for the downtown San Jose area.

• Protect species recently listed or proposed for listing under the Endangered Species Act.

• Meet conditions for water quality certification under the Clean Water Act.

• Refine recreational opportunities along the Guadalupe River corridor.

• Implement mitigation commitments specified in the Mitigation and Monitoring Plan (MMP).

Modification to the Guadalupe River Project include (1) construction and operation of an underground bypass between Santa Clara Street and Coleman Avenue to convey floodwaters around important riparian habitat, (2) riverfront recreation trail between Santa Clara Street and Coleman Avenue on the west bank, and between New Julian Street and Coleman Avenue on the east bank, (3) expanded onsite SRA-cover mitigation between Woz Way and I-880 (4) an additional offsite SRA-cover mitigation site between I-880 and Airport Parkway, and (5) an additional offsite SRA-cover mitigation site on Guadalupe Creek between Masson Dam and Almaden Expressway. Remaining components of the Authorized Project which will be implemented as part of the Proposed Action include (1) construction of flood training walls near I-280 to direct upstream flood flows back into the river channel, (2) westbank pedestrian overlook and recreation trail between Park Avenue and San Fernando Street, (3) eastbank recreation trail between Park Avenue and West Santa Clara, (4) westbank recreation trail between New Julian Street and Coleman, (5) removal of two railroad bridges between New Julian and Coleman Avenue.

5. Commenting

Comments received in response to this report, including names and addresses of those who comment, will be considered part of the public record on this proposed action. Comments submitted anonymously will be accepted and considered. Pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Corps will inform the requester of the agency's decision regarding the request for confidentiality, and where the request is denied, the agency will return the submission and notify the requester that the comments may be resubmitted with or without the name and address.

John A. Hall,
Alternate Army Federal Register Liaison Officer.

[FR Doc. 00-15647 Filed 6-20-00; 8:45 am]

BILLING CODE 3710-EZ-M